DEPARTMENT OF TRANSPORTATION

Federal Motor Carrier Safety Administration

Availability of Commercial Driver's License Information System (CDLIS) Modernization Grant Funds

AGENCY: Federal Motor Carrier Safety Administration (FMCSA), DOT.

ACTION: Notice.

SUMMARY: The Federal Motor Carrier Safety Administration (FMCSA) announces the availability of Commercial Driver's License Information System (CDLIS) modernization grant funding as authorized by Section 4123 of the Safe, Accountable, Flexible, Efficient Transportation Equity Act: A Legacy for Users (SAFETEA-LU). This law included an appropriation of $28 million (FY 2006-2009) towards modernization of CDLIS. The FY 2006 and FY 2007 funding of $5 million and $7 million was awarded to the American Association of Motor Vehicle Administrators for development costs. The FY 2008 funding of $8 million being made available in this notice will be awarded to the States. The program is a discretionary grant program that provides funding for States to upgrade their driver licensing information systems to make them compatible with the new modernized CDLIS specifications. The grant funds under this program may be used for personnel, computer hardware and software, publications, testing, training, and quality control. The grant funds may not be used to rent, lease, or buy land or buildings. The agency in each State designated as the primary driver licensing agency responsible for the development, implementation, and maintenance of the Commercial Driver's License (CDL) program is eligible to apply for grant funding. The Federal share of the funds is established by SAFETEA-LU as 80 percent. There is a 20 percent matching requirement. The grant period for any grant awarded under this program is effective from the date the agreement is executed until September 30, 2010. Funds are available to any State that is in substantial compliance with the requirements of 49 U.S.C. 31311 and submits a grant proposal that qualifies under the conditions in this notice, including assuming the responsibility of incorporating the new CDLIS specifications and improving its commercial driver licensing system. State grant proposals must include a detailed budget explaining how the funds will be used and how the State will meet the matching requirements.

To apply for funding, applicants must register with the grants.gov Web site (http://www.grants.gov/applicants/get_registered.jsp) and submit an application in accordance with instructions provided. Applications for grant funding must be submitted electronically to the FMCSA through the grants.gov web site.

DATES: FMCSA will initially consider funding for applications submitted by April 30, 2008, by qualified applicants. If additional funding remains available, applications submitted after April 30, 2008, will be considered on a case-by-case basis. The grant period is in effect from the date the agreement is executed until September 30, 2010.

FOR FURTHER INFORMATION CONTACT: Visit www.grants.gov. Information on the grant, application process, and additional contact information is available at that Web site. General information about the CDLIS modernization grant program is available in The Catalog of Federal Domestic Assistance (CFDA) which can be found on the internet at http://www.cfda.gov. The CFDA number for the CDLIS modernization grant program is 20.238. You may also contact Ms. Margaret Jones, Federal Motor Carrier Safety Administration, Office of Safety Programs, CDL Division (MC-ESL), 202-493-0439, 1200 New Jersey Avenue, SE., Suite W65-228, Washington, DC 20590. Office hours are from 8 a.m. to 4:30 p.m., ET, Monday through Friday, except Federal holidays.

Issued on: February 15, 2008.
William A. Quade,
Associate Administrator for Enforcement and Program Delivery.

[FR Doc. E8-3413 Filed 2-22-08; 8:45 am]

BILLING CODE 4910-EX-P